DEPARTMENT OF ENERGY

Federal Energy Regulatory Commission

[Docket No. RP02-360-000]

Algonquin Gas Transmission Company; Notice of Refund Report

June 12, 2002.

Take notice that on June 5, 2002, Algonquin Gas Transmission Company (Algonquin) tendered for filing a refund report of a flow through refund received on April 10, 2002 from Texas Eastern Transmission, LP (Texas Eastern) of a Take-or-Pay Refund, in Docket No. RP02-229. Algonquin reports that it is flowing through the appropriate amounts to its Customers as credits on their May 7, 2002 invoices.

Algonquin states that copies of its filing have been mailed to all affected customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed on or before June 19, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-15415 Filed 6-18-02; 8:45 am]

BILLING CODE 6717-01-P